DEPARTMENT OF JUSTICE

Notice of Lodging of the Consent Decree Under the Clean Water Act

Notice is hereby given that on June 22, 2006, a proposed Consent Decree in United States v. Puerto Rico Aqueduct and Sewer Authority (“PRASA”), Civil action No. 06-1624 (SEC) was lodged with the United States court for the District of Puerto Rico.

The proposed Consent Decree resolves PRASA's Clean Water Act (CWA) violations involving discharges in violation of CWA permits; failure to operate and properly maintain all 61 wastewater treatment plants; and discharges of raw sewage from seven collection systems. Under the terms of the Consent Decree, PRASA will pay a $1 million penalty, undertake a Supplemental Environment Project valued at $3 million, and implement injunctive relief valued at approximately $1.7 billion. PRASA agrees to complete 145 short-term, mid-term and/or long-term capital improvement projects at its wastewater treatment plants over the next 15 years. PRASA will also implement a Spill Response and Cleanup Plan and an Integrated Maintenance Program to promote proper operation and maintenance of its wastewater treatment plants.

The Department of Justice will receive for a period of thirty (30) days from the date of this publication comments relating to the Consent Decree. Comments should be addressed to the Assistant Attorney General, Environment and Natural Resources Division, P.O. Box 7611, U.S. Department of Justice, Washington, DC 20044-7611, and should refer to United States v. PRASA.

The Consent Decree may be examined at the Office of the United States Attorney, Federal Office Building, Rm. 10, Carlos E. Chardón Avenue, San Juan, Puerto Rico, and at U.S. EPA Region II, 290 Broadway, New York, New York. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $39.50 (25 cents per page reproduction cost) payable to the U.S. Treasury or, if by e-mail or fax, forward a check in that amount to the Consent Decree Library at the stated address.

Ronald G. Gluck,
Assistant Chief, Environmental Enforcement Section, Environment and Natural Resource Division.

[FR Doc. 06-6048 Filed 7-6-06; 8:45 am]

BILLING CODE 4410-15-M